DEPARTMENT OF AGRICULTURE

Agricultural Marketing Service

[Doc. No. LS-03-01]

Request for Extension and Revision of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request an extension of and revision to the currently approved collections for 7 CFR part 54—Meats, Prepared Meats, and Meat Products (Grading, Certification, and Standards), which includes Form LS-313, “Application for Service” and Form LS-315, “Application for Commitment Grading or Certification Service.”

DATES: Comments on this notice must be received on or before April 11, 2003.

ADDRESSES: Send written comments to Larry R. Meadows, Chief; USDA, AMS, LS, MGC; STOP 0248, Room 2628-S; 1400 Independence Avenue, SW., Washington, DC 20250-0248. Comments will be available for public inspection at the above address during regular business hours. Comments may also be submitted by e-mail to Larry.Meadows@usda.gov or by facsimile to (202) 690-4119. All comments should reference the docket number (LS-03-01), the date, and the page number of this issue of the Federal Register. All responses to this notice will be summarized and included in the request for OMB approval.

SUPPLEMENTARY INFORMATION:

Title: 7 CFR part 54—Meats, Prepared Meats, and Meat Products (Grading, Certification, and Standards).

OMB Number: 0581-0124.

Expiration Date of Approval: September 30, 2003.

Type of Request: Extension and revision of a currently approved collection of information.

Abstract: The application for meat grading and certification services requests Department of Agriculture employees to perform such services in the requesting establishment. The information contained on the applications constitutes an agreement between USDA and the requesting establishment.

The Agricultural Marketing Act of 1946, as amended, authorizes the Secretary of Agriculture to provide voluntary Federal meat grading and certification services that facilitate the marketing of meat and meat products. The Meat Grading and Certification (MGC) Branch provides these services pursuant to 7 CFR part 54—Meats, Prepared Meats, and Meat Products (Grading, Certification, and Standards).

Due to the voluntary nature of grading and certification services, 7 CFR part 54 contains provisions for the collection of fees from users of MGC Branch services that as nearly as possible are equal to the cost of providing the requested services. Applicants (individual or businesses with financial interest in the product) may request MGC Branch services through either submission of Form LS-313 or Form LS-315.

Congress did not specifically authorize this collection of information, but completion and submission of Form LS-313 or Form LS-315 serves as an agreement by the requester to pay for services provided.

Estimate of Burden: Public reporting burden for this collection of information is estimated to average .0178 hours per response.

Respondents: Livestock and meat industry or other for-profit businesses.

Estimated Number of Respondents: 715 respondents.

Estimated Number of Responses per Respondent: 16 responses.

Estimated Total Annual Burden on Respondents: 212.40 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including through the use of appropriate automated, electronic, mechanical, or other technological collection techniques or other forms of information technology.

FOR FURTHER INFORMATION CONTACT: Larry R. Meadows, Chief, Meat Grading and Certification Branch, telephone (202) 720-1246, facsimile 202-690-4119, or e-mail at Larry.Meadows@usda.gov.

Dated: February 4, 2003.
A.J. Yates,
Administrator, Agricultural Marketing Service.

[FR Doc. 03-3116 Filed 2-7-03; 8:45 am]

BILLING CODE 3410-02-P